DEPARTMENT OF COMMERCE

National Oceanic and Atmospheric Administration

RIN 0648-XU32

Fisheries Off West Coast States and in the Western Pacific; Pacific Coast Groundfish Fishery; Application for an Exempted Fishing Permit

AGENCY: National Marine Fisheries Service (NMFS), National Oceanic and Atmospheric Administration (NOAA), Commerce.

ACTION: Notice; intent to issue exempted fishing permits, request for comment.

SUMMARY: NMFS announces the intent to issue exempted fishing permits (EFPs) to Pacific whiting shoreside vessels and first receivers that participate in a maximized retention and monitor program for the 2010 Pacific whiting shoreside fishery. EFPs are needed to allow vessels to retain catch in excess of the cumulative limits and to retain prohibited species until offloading. EFPs are also needed to allow first receivers to possess Pacific whiting deliveries with prohibited species, to possess catch that is in excess of cumulative limits, and to use hopper type scales to derive accurate catch weights prior to sorting. Issuance of the EFPs would allow NMFS to collect catch data on incidentally caught species, including salmonids listed under the Endangered Species Act, and would allow new components of an overall monitoring program to continue to be investigated before implementation of a regulatory program.

DATES: Comments must be received by March 26, 2010.

ADDRESSES: You may submit comments, identified by RIN 0648-XU32, by any one of the following methods:

• E-mail: whitingEFP@noaa.gov. Include 0648-XU32 in the subject line of the message.

• Fax: 206-526-6736, Attn: Becky Renko

• Mail: Barry A. Thom, Acting Regional Administrator, Northwest Region, NMFS, 7600 Sand Point Way NE, Seattle, WA 98115-0070, Attn: Becky Renko.

Instructions: Attachments to e-mail comments will be accepted in Microsoft Word, Excel, WordPerfect, or Adobe PDF file formats only.

FOR FURTHER INFORMATION CONTACT: Becky Renko or Kevin Duffy at (206) 526-6140.

SUPPLEMENTARY INFORMATION: This action is authorized by the Magnuson Stevens Fishery Conservation and Management Act provisions at 50 CFR 600.745 which states that EFPs may be used to authorize fishing activities that would otherwise be prohibited in order to collect data among other activities. NMFS Northwest Region sent a letter to the Pacific Fishery Management Council (Council) that included a proposal for issuance of EFPs to vessels and first receivers participating in the 2010 Pacific whiting shoreside fishery. The Council considered the EFP activity at their November 2009 meeting. If issued, the EFPs would provide for a maximized retention and monitoring program for the Pacific whiting shoreside fishery. The maximized retention and monitoring program requirements specified in the EFP are intended to allow for the Pacific whiting shoreside fishery to be efficiently prosecuted while providing accurate catch data such that the Endangered Species Act and Magnuson-Stevens Fishery Conservation and Management Act requirements for this fishery are adequately met.

The issuance of EFPs would allow approximately 40 vessels to delay sorting of groundfish catch and to retain catch in excess of cumulative trip limits and prohibited species catch until offloading. These activities are otherwise prohibited by regulations at 50 CFR 660.306(a)(10) and 50 CFR 660.306(a)(2) respectively.

Additionally, issuance of the EFPs to approximately 15 first receivers (generally land-based processing facilities) would allow first receivers to possess more than a single cumulative limit of a particular species, per vessel, per applicable cumulative limit period. The possession of catch in excess of the cumulative limits is otherwise prohibited by regulations at 50 CFR 660.306(a)(10). In addition, the EFPs would include an allowance for first receivers to use hopper type scales to derive an accurate total catch weight prior to sorting. Regulations pertaining to sorting at § 660.370(h)(6) and prohibitions at § 660.306(a)(7) require vessels to sort the catch before weighing.

Issuance of the EFPs would allow for the collection of information on the catch of salmon, non-whiting groundfish, and other non-groundfish species incidentally taken with Pacific whiting. These data are needed to monitor the attainment of the shore based whiting allocation while assuring that the fishery specifications (bycatch limits, species allocations, OYs, and biological opinion thresholds) are not exceeded. Because whiting flesh deteriorates rapidly once the fish are caught, whiting must be minimally handled and immediately chilled to maintain the flesh quality. Allowing Pacific whiting shoreside vessels to retain unsorted catch will also enable whiting quality to be maintained.

At the June 2007 Pacific Fishery Management Council (PFMC) meeting, the PFMC recommended that NMFS implement a maximized retention program in Federal regulations that would allow full retention of Pacific whiting catch by the vessels, that is delivered to first receivers on shore. The terms and conditions of the EFPs used in 2008 and 2009 were consistent with the Council's June 2007 recommendation for implementing the provisions of Amendment 10 to the Pacific Coast Groundfish Fishery Management Plan (FMP), which allows implementation of this program. Although it was expected that a regulatory program would be in place at this time, it has not yet been implemented. At the June 2009 meeting the Council recommended a preferred alternative for implementation of a trawl rationalization program under Amendment 20 to the FMP that would change the future management and monitoring needs for the Pacific whiting shoreside fishery. EFPs will continue to be used until regulations implementing Amendment 10 to the groundfish FMP are implemented, or until tracking and monitoring regulations implementing the trawl rationalization program under Amendment 20 are effective. Additional information collected under this EFP program will benefit the development tracking and monitoring provisions of Amendment 20 to the groundfish FMP.

The vessel EFPs would require Pacific whiting shoreside vessels to dump unsorted catch directly below deck and would allow unsorted catch to be landed, providing that an electronic monitoring system (EMS) is used on all fishing trips to verify retention of catch at sea. The EMS has shown to be an effective tool for accurately monitoring catch retention and identifying the time and location of discard events. The EFPs would include provisions for EMS, paid for by the vessels, similar to the 2009 EFP and similar to the proposed Federal regulatory program.

Proposed Federal regulations for a maximized retention and monitoring program would also require first receivers to have onshore monitoring conducted by catch monitors. Catch monitors are third-party employees, paid for by industry, and trained to NMFS standards. The EFP would include provisions for third-party catch monitors from a NMFS specified provider. Like the proposed Federal regulatory program under development, catch monitors used under the EFPs would be trained in techniques that would be used for the verification of fish ticket data and in species identification. Catch monitor duties include overseeing the sorting, weighing, and recordkeeping process, as well as gathering information on incidentally caught salmon. Catch monitors verify the accuracy of electronic fish ticket data used to manage the Pacific whiting shoreside fishery such that inaccurate or delayed information does not result in any fishery specifications (bycatch limits, species allocations, OYs, and biological opinion thresholds) being exceeded. To insure the integrity of sector-specific bycatch limits, the 2010 EFPs would require full catch monitor coverage.

Authority: 16 U.S.C. 1801 et seq.

Dated: March 5, 2010.
Alan D. Risenhoover
Director, Office of Sustainable Fisheries, National Marine Fisheries Service.

[FR Doc. 2010-5259 Filed 3-10-10; 8:45 am]

BILLING CODE 3510-22-S